DEPARTMENT OF THE INTERIOR

Bureau of Land Management

[LLCO922000-L13100000-FI0000-19X]

Notice of Proposed Reinstatement of Terminated Oil and Gas Lease COC76814, Colorado

AGENCY: Bureau of Land Management, Interior.

ACTION: Notice of reinstatement.

SUMMARY: As authorized in the Mineral Leasing Act of 1920, as amended, the Bureau of Land Management (BLM) received a petition for reinstatement of competitive oil and gas lease COC76814 from Williams Fork Land Company for land in Moffat County, Colorado. The lessee filed the petition on time, along with all rentals due since the lease terminated. No leases that affect these lands were issued prior to receiving the petition. The BLM proposes to reinstate this lease.

FOR FURTHER INFORMATION CONTACT: Jonathan Fairbairn, Branch Chief, Fluid Minerals, BLM Colorado State Office, 2850 Youngfield Street, Lakewood, CO 80215, (303) 239-3753, jfairbairn@blm.gov. Persons who use a telecommunications device for the deaf (TDD) may call the Federal Relay Service (FRS) at 1-800-877-8339 to contact Mr. Fairbairn during normal business hours. The FRS is available 24 hours a day, seven days a week, to leave a message or questions. You will receive a reply during normal business hours.

SUPPLEMENTARY INFORMATION: The lessee requested reinstatement after the lease automatically terminated for untimely payment of rent. The lessee agrees to the new lease terms for rentals and royalties of $10 per acre, or fraction thereof, per year, and 16⅔ percent, respectively. The lessee paid the required $500 administrative fee for lease reinstatement and the $151 cost of publishing this notice. The lessee met the requirements for reinstatement of the lease per Sec. 31(d) and (e) of the Mineral Leasing Act of 1920 (30 U.S.C. 188). The BLM considered the impacts of reinstatement of the lease in Environmental Assessment DOI-BLM-CO-N05-2017-0035, and issued a Finding of No Significant Impact. The BLM proposes to reinstate the lease effective April 1, 2016, under amended lease terms and the increased rental and royalty rates described above.

Authority: 30 U.S.C. 188 and 43 CFR 3108.2-3.

Jamie E. Connell,
BLM Colorado State Director.

[FR Doc. 2019-17903 Filed 8-19-19; 8:45 am]

BILLING CODE 4310-JB-P